DEPARTMENT OF AGRICULTURE

Animal and Plant Health Inspection Service

[Docket No. APHIS-2021-0076]

Importation of Acer spp. (Acer buergerianum, A. palmatum, and A. pseudosieboldianum) Dwarf Plants From the Republic of Korea Into the Continental United States

AGENCY: Animal and Plant Health Inspection Service, USDA.

ACTION: Notice.

SUMMARY: We are notifying the public that we are removing three Acer spp. (Acer buergerianum, A. palmatum, and A. pseudosieboldianum) dwarf plants from the Republic of Korea from our lists of taxa of plants for planting whose importation into the United States is not authorized pending pest risk analysis, thereby allowing the importation of such Acer spp. into the continental United States, subject to certain conditions. We are taking this action in response to a request from this country and after determining that the plants can be imported, under certain conditions, without resulting in the introduction into, or the dissemination within, the United States of a plant pest.

DATES: Imports may be authorized beginning October 21, 2024.

FOR FURTHER INFORMATION CONTACT: Dr. Narasimha Chary Samboju, Senior Regulatory Policy Specialist, PPQ, APHIS, 4700 River Road, Unit 133, Riverdale, MD 20737-1236; (301) 851-2038.

SUPPLEMENTARY INFORMATION:

Background

Under the regulations in “Subpart H—Plants for Planting” (7 CFR 319.37-1 through 319.37-23, referred to below as the regulations), the Animal and Plant Health Inspection Service (APHIS) of the U.S. Department of Agriculture prohibits or restricts the importation of plants for planting (including living plants, plant parts, seeds, and plant cuttings) to prevent the introduction of quarantine pests into the United States. Quarantine pest is defined in § 319.37-2 of the regulations as a plant pest or noxious weed that is of potential economic importance to the United States and not yet present in the United States, or present but not widely distributed and being officially controlled. Section 319.37-4 of the regulations provides that certain taxa of plants for planting are not authorized for importation into the United States pending pest risk analysis (NAPPRA) to prevent the introduction of quarantine pests into the United States.

Paragraph (e) of § 319.37-4 describes the process for removing taxa from the NAPPRA lists.¹ After receiving a request to remove taxa from the NAPPRA lists, APHIS will conduct a pest risk analysis (PRA) in response to such a request and make the PRA available for public review and comment. Following the close of the comment period, we will review all comments received and announce our decision regarding the request in a subsequent notice.

¹ To view the NAPPRA lists, go to: https://www.aphis.usda.gov/aphis/ourfocus/planthealth/import-information/permits/plants-and-plant-products-permits/plants-for-planting/ct_nappra.

On January 31, 2022, we published in the Federal Register (87 FR 4832-4833, Docket No. APHIS-2021-0076) a notice ² in which we proposed to revise the NAPPRA lists to allow the importation of three Acer spp. (Acer buergerianum, A. palmatum, and A. pseudosieboldianum) dwarf plants from the Republic of Korea (South Korea) into the continental United States, subject to the conditions required for all approved dwarf plants imported under the APHIS Artificially Dwarfed Plants program ³ as well as additional conditions outlined in a risk management document (RMD) accompanying the notice.

² To view the notice, supporting documents, and the comments we received, go to https://www.regulations.gov/document/APHIS-2021-0076-0001.

³ To view the requirements of the APHIS Artificially Dwarfed Plants program, go to: https://www.aphis.usda.gov/import_export/plants/manuals/ports/downloads/plants_for_planting.pdf.

We solicited comments on the notice for 60 days ending on April 1, 2022. We received three comments by that date, all from private citizens. The issues raised by the commenters are addressed below.

All three commenters expressed concern that importing non-native plants, or plants from regions with plant pests, may introduce foreign pests, or otherwise endanger plants native to the United States.

We understand the commenters' concerns but find no basis for changing our recommendations based on the comments. As the documentation associated with the initial notice for comment shows, APHIS thoroughly and sufficiently assessed potential risks from this importation and proposed conditions adequate to mitigate the possible risks. Our methodology for the pest risk assessment that accompanied the initial notice included careful examination of scientific literature, port-of-entry pest interception data, and information provided by the Government of the Republic of Korea. From these sources, we developed a list of pests with quarantine significance for the continental United States that occur in the Republic of Korea (on any host) and are associated with the three Acer spp. (anywhere in the world). We are therefore confident the pest risk assessment is thorough and accurate.

Based on the pest risk assessment, we prepared the RMD to identify phytosanitary measures that could be applied to the three Acer spp. to mitigate the risk of introducing these pests into the United States. As the commenters did not raise any specific concerns with the information presented in the RMD, we continue to consider the mitigations in the RMD to be sufficient to ensure that pests are not introduced into the United States through this pathway.

One of the commenters also stated that, while the PRA considers risks associated with known pests, it does not consider pest species that may present a risk in the future.

APHIS continuously monitors foreign countries for quarantine pests. If a new quarantine pest relevant to the importation of these species of Acer from the Republic of Korea arises in the future, APHIS will reassess the associated pest risk and may revise the import restrictions accordingly.

Therefore, in accordance with § 319.37-4(e), and based on the reasons outlined in the initial notice, the PRA accompanying the initial notice, and this second notice, we are removing A. buergerianum, A. palmatum, and A. pseudosieboldianum dormant, bare-rooted dwarf plants from the Republic of Korea from the NAPPRA lists, thereby allowing the importation of such Acer spp. into the continental United States, subject to the pest mitigation measures required for all approved dwarf plants imported under the APHIS Artificially Dwarfed Plants program ⁴ as well as the additional commodity specific risk management measures described in the RMD accompanying the initial notice.⁵

⁴ See footnote 3.

⁵ See footnote 2.

Paperwork Reduction Act

In accordance with the Paperwork Reduction Act of 1995 (44 U.S.C. 3501 et seq.), the recordkeeping and burden requirements associated with this action are included under the Office of Management and Budget control number 0579-0049.

E-Government Act Compliance

The Animal and Plant Health Inspection Service is committed to compliance with the E-Government Act to promote the use of the internet and other information technologies, to provide increased opportunities for citizen access to Government information and services, and for other purposes. For information pertinent to E-Government Act compliance related to this notice, please contact Mr. Joseph Moxey, APHIS' Paperwork Reduction Act Coordinator, at (301) 851-2533.

Authority: 7 U.S.C. 1633, 7701-7772, and 7781-7786; 21 U.S.C. 136 and 136a; 7 CFR 2.22, 2.80, and 371.3.

Done in Washington, DC, this 15th day of October 2024.
Michael Watson,
Administrator, Animal and Plant Health Inspection Service.

[FR Doc. 2024-24200 Filed 10-18-24; 8:45 am]

BILLING CODE 3410-34-P